DEPARTMENT OF JUSTICE

Notice of Lodging Proposed Consent Decree

In accordance with Departmental Policy, 28 CFR 50.7, notice is hereby given that a proposed Consent Decree in United States v. Lodge/Abbott Investments Associates LLC, et al., Civil Action Number 2:18-cv-87-FtM-38MRM, was lodged with the United States District Court for the Middle District of Florida, Fort Myers Division, on February 9, 2018.

This proposed Consent Decree concerns a complaint filed by the United States against Lodge/Abbott Investments Associates LLC and Lodge/Abbott Associates LLC, pursuant to Sections 301 and 404 of the Clean Water Act, 33 U.S.C. 1311 and 1344, to obtain injunctive relief from and impose civil penalties against the Defendants for violating the Clean Water Act by discharging pollutants without a permit into waters of the United States. The proposed Consent Decree resolves these allegations by requiring the Defendants to perform mitigation and to pay a civil penalty. The proposed Consent Decree also subjects Defendants to an injunction.

The Department of Justice will accept written comments relating to this proposed Consent Decree for thirty (30) days from the date of publication of this Notice. Please address comments to Andrew Doyle, Senior Attorney, United States Department of Justice, Environment and Natural Resources Division, Environmental Defense Section, Post Office Box 7611, Washington, DC 20044, and refer to United States v. Lodge/Abbott Investments Associates LLC, et al., DJ# 90-5-1-1-21238.

The proposed Consent Decree may be examined at the Clerk's Office, United States District Court for the Middle District of Florida, Fort Myers Division, 2110 First Street, Fort Myers, FL 33901, or in any of its other Divisions in Tampa, Orlando, Ocala, and Jacksonville, FL. In addition, the proposed Consent Decree may be examined electronically at http://www.justice.gov/enrd/consent-decrees.

Cherie L. Rogers,
Assistant Section Chief, Environmental Defense Section, Environment and Natural Resources Division.

[FR Doc. 2018-03120 Filed 2-14-18; 8:45 am]

BILLING CODE 4410-15-P